DEPARTMENT OF VETERANS AFFAIRS

Gulf War Veterans' Illnesses Task Force

AGENCY: Department of Veterans Affairs (VA).

ACTION: Notice with request for comments.

SUMMARY: The Secretary, Department of Veterans Affairs (VA) established the Gulf War Veterans' Illnesses Task Force (GWVI-TF) in August 2009 to conduct a comprehensive review of VA's approach to and programs addressing 1990-1991 Gulf War Veterans' illnesses. The second Gulf War Veterans' Illnesses Task Force Draft Written Report is now complete. VA is inviting public comments on the Gulf War Veterans' Illnesses Task Force Draft Report for Public Comment.

DATES: Written comments must be received on or before November 21, 2011.

ADDRESSES: Although VA prefers electronic submission of public comments through http://www.regulations.gov; written comments may be submitted through mail or hand-delivery to the Director, Regulations Management (02REG), Department of Veterans Affairs, 810 Vermont Ave., NW., Room 1068, Washington, DC 20420 or by fax to (202) 273-9026. Please view and/or download the Gulf War Veterans' Illnesses Task Force Draft Report for Public Comment at http://www.va.gov/opa/publications/Draft_2011_GWVI-TF_Report.pdf. Please write: “Gulf War Veterans' Illnesses Task Force Draft Written Report or GWVI-TF Report” in the subject line of your letter or e-mail. Copies of all comments received will be available for public inspection in the Office of Regulation Policy and Management, Room 1063B, between the hours of 8 a.m. and 4:30 p.m., Monday through Friday (except holidays). Please call (202) 461-4902 for an appointment. Comments may also be viewed online during the comment period, through the Federal Docket Management System (FDMS) at http://www.regulations.gov. You can also submit ideas on improving VA services to Gulf War Veterans at http://vagulfwartaskforce.uservoice.com/. Please subscribe to our quarterly Gulf War Veterans Newsletter by including your e-mail address with your comment.

FOR FURTHER INFORMATION CONTACT: John Kent, GWVI-TF Secretary, OSVA, Department of Veterans Affairs, 810 Vermont Avenue, NW., Washington, DC 20420, at (202) 461-4814.

Approved: October 14, 2011.
John R. Gingrich,
Chief of Staff, Department of Veterans Affairs.

[FR Doc. 2011-27082 Filed 10-19-11; 8:45 am]

BILLING CODE 8320-01-P